DEPARTMENT OF ENERGY

Federal Energy Regulatory Commission

[Docket No. QF07-116-000]

State University of New York, Old Westbury; Notice of Self-Certification of Qualifying Status of a Cogeneration Facility

June 29, 2007.

Take notice that on March 15, 2007, the State University of New York (SUNY), 223 Store Hill Road, Old Westbury, New York 11568 filed with the Federal Energy Regulatory Commission a notice of self-certification of a facility as a qualifying cogeneration facility pursuant to 18 CFR 292.207(a) of the Commission's regulations.

Description of facility:

(A) The cogeneration facility produces electricity and high temperature hot water (250 °F to 350 °F),

(B) the energy source used is natural gas,

(C) the power production equipment is a GE Jenbacher Model JMS 612 GS NL Gaseous Generator Set. It uses a Stamford HVS 1804R2 generator with a gross rated capacity of 1778 kW and net capacity of 1723 kW at unity power factor,

(D) the cogeneration facility is located on the SUNY Old Westbury campus, in the boiler room.

The cogeneration facility expects to interconnect to the Long Island Power Authority (LIPA) and LIPA will provide standby, back-up and maintenance power.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-13302 Filed 7-9-07; 8:45 am]

BILLING CODE 6717-01-P